DEPARTMENT OF DEFENSE

Department of the Army; Corps of Engineers

Intent To Prepare an Environmental Impact Statement for the Proposed Halligan-Seaman Water Management Project in Northeastern Colorado

AGENCY: Department of the Army, U.S. Army Corps of Engineers, DoD.

ACTION: Notice of intent.

SUMMARY: The U.S. Army Corps of Engineers (COE) is preparing an Environmental Impact Statement (EIS) to analyze the direct, indirect and cumulative effects of two water supply projects being proposed collectively as the Halligan-Seaman Water Management Project. Construction of the proposed Project(s) will result in temporary and permanent impacts to jurisdictional waters of the United States, thereby requiring Clean Water Act Section 404 permits. The Cities of Fort Collins and Greeley (Cities), and six other water providers (Participants), have proposed the Project(s) to provide drought protection of existing and future water demands, more efficiency in managing Participants' existing or future water rights, some operational redundancy, and possibly environmental benefits. Construction of the proposed Project(s) involves enlargement of two existing reservoirs: Halligan Reservoir and Milton Seamen Reservoir (Seaman Reservoir), resulting in approximately 88,592 acre-feet of additional storage capacity in the Cache la Poudre River Basin. The Halligan-Seaman Water Management Project would be a non-federal project constructed, owned and operated by the Cities and/or Participants.

DATES: Scoping meetings will be held:

1. February 23, 2006, 4 to 8 p.m., Livermore, CO.

2. February 27, 2006, 4 to 8 p.m., Fort Collins, CO.

3. February 28, 2006, 4 to 8 p.m., Greeley, CO.

ADDRESSES: The scoping meeting locations are:

1. February 23, 2006, at The Livermore Community Church, 160 Red Feather Lakes, Livermore, CO.

2. February 27, 2006, at the Lincoln Center, Canyon Room, 417 West Magnolia Street, Fort Collins, CO.

3. February 28, 2006, at the Bunk House at Island Grove, 501 North 14th Avenue, Greeley, CO.

FOR FURTHER INFORMATION CONTACT: Questions and comments regarding the proposed action and EIS should be addressed to Chandler Peter, Project Manager, U.S. Army Corps of Engineers, 2232 Dell Range Blvd., Suite 210, Cheyenne, WY 82009; (307) 772-2300 chandler.j.peter@usace.army.mil. For special needs (visual or hearing impaired, Spanish Translator, etc.) requests during scoping meetings, please call Chandler Peter by February 15, 2006.

SUPPLEMENTARY INFORMATION: The COE will be conducting public scoping meetings at three locations (See DATES and ADDRESSES) to describe the Project(s), the NEPA compliance process, and to solicit input on the issues and alternatives to be evaluated, and other related matters. Written comments for scoping will be accepted, until March 17, 2006. The COE has prepared a Scoping Document to familiarize other agencies, the public and interested organizations with the proposed Project(s) and potential environmental issues that may be involved. Copies of the Scoping Document will be available at the public Scoping Meetings or can be requested by mail.

The Participants are composed of water providers in the region and include three water districts collectively known as the Tri-District including North Weld County Water District, Fort Collins-Loveland Water District, and East Larimer County Water District, the City of Evans, the North Poudre Irrigation Company, and the Water Supply and Storage Company.

The Cities have proposed a preferred configuration of the Project(s) which involves the construction of new, larger dams immediately downstream of the existing Halligan and Seaman dams. Water stored in the expanded reservoirs will address needs associated with municipal and industrial water demands as well as some agricultural demands. Preliminary analyses by the Cities indicate that the enlarged reservoirs will fill primarily during the summer and fall months from North Fork Poudre River flows. Seaman Reservoir will also fill via a pump station on the Poudre River mainstem near the dam site. Small releases are proposed throughout the year on a periodic basis to maximize operational efficiency. The cities anticipate that both reservoirs are expected to remain mostly full except during drought periods.

The EIS will be prepared according to the COE's procedures for implementing the National Environmental Policy Act (NEPA) of 1969, as amended, 42 U.S.C. 4332(2)(c), and consistent with the COE's policy to facilitate public understanding and review of agency proposals. As part of the EIS process, a full range of reasonable alternatives include the proposed Project and no action will be evaluated.

The COE has invited the U.S. Environmental Protection Agency, the U.S. Fish and Wildlife Service, the U.S. Forest Service, Colorado Division of Wildlife, Larimer County, and Weld County to be cooperating agencies in the formulation of the EIS.

Chandler J. Peter,
Project Manager, Regulatory Branch.

[FR Doc. 06-933 Filed 1-31-06; 8:45 am]

BILLING CODE 3710-62-M